DEPARTMENT OF ENERGY

Federal Energy Regulatory Commission

Combined Notice of Filings #1

Take notice that the Commission received the following electric rate filings:

Docket Numbers: ER11-2999-002.

Applicants: Arizona Public Service Company.

Description: Arizona Public Service Company submits tariff filing per 35: Attachment C compliance filing to make images viewable in E-Tariff Viewer to be effective 4/1/2011.

Filed Date: 05/11/2011.

Accession Number: 20110511-5105.

Comment Date: 5 p.m. Eastern Time on Wednesday, June 01, 2011.

Docket Numbers: ER11-3432-001.

Applicants: Torofino Physical Trading LLC.

Description: Torofino Physical Trading LLC submits tariff filing per 35.17(b): FERC Electric Tariff No.1 to be effective 6/24/2011.

Filed Date: 05/11/2011.

Accession Number: 20110511-5019.

Comment Date: 5 p.m. Eastern Time on Wednesday, June 01, 2011.

Docket Numbers: ER11-3544-000.

Applicants: Southern California Edison Company.

Description: Southern California Edison Company submits tariff filing per 35.15: Notice of Cancellation of Letter Agreement AV Solar Ranch One Project to be effective 12/21/2010.

Filed Date: 05/11/2011.

Accession Number: 20110511-5000.

Comment Date: 5 p.m. Eastern Time on Wednesday, June 01, 2011.

Docket Numbers: ER11-3545-000.

Applicants: Cincinnati Bell Energy LLC.

Description: Cincinnati Bell Energy LLC submits tariff filing per 35.13(a)(2)(iii: Cincinnati Bell Energy LLC to be effective 4/15/2011.

Filed Date: 05/11/2011.

Accession Number: 20110511-5029.

Comment Date: 5 p.m. Eastern Time on Wednesday, June 01, 2011.

Docket Numbers: ER11-3546-000.

Applicants: PJM Interconnection, L.L.C.

Description: PJM Interconnection, L.L.C. submits tariff filing per 35.13(a)(2)(iii: Queue No. W3-057; Original Service Agreement No. 2859 to be effective 4/11/2011.

Filed Date: 05/11/2011.

Accession Number: 20110511-5040.

Comment Date: 5 p.m. Eastern Time on Wednesday, June 01, 2011.

Docket Numbers: ER11-3547-000.

Applicants: RG Steel Sparrows Point LLC.

Description: RG Steel Sparrows Point LLC submits tariff filing per 35.12: RG Steel MBRA ETariff Baseline Filing to be effective 5/11/2011.

Filed Date: 05/11/2011.

Accession Number: 20110511-5100.

Comment Date: 5 p.m. Eastern Time on Wednesday, June 01, 2011.

Take notice that the Commission received the following qualifying facility filings:

Docket Numbers: QF11-261-000.

Applicants: North Carolina State University.

Description: Form 556—Notice of self-certification of qualifying cogeneration facility status of Jacobs Engineering Group.

Filed Date: 05/11/2011.

Accession Number: 20110511-5016.

Comment Date: None Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: May 12, 2011.
Nathaniel J. Davis, Sr.,
Deputy Secretary.

[FR Doc. 2011-12219 Filed 5-17-11; 8:45 am]

BILLING CODE 6717-01-P